DEPARTMENT OF THE INTERIOR

Fish and Wildlife Service

[FWS-R4-ES-2015-N163; FXES11130400000EA-123-FF04EF1000]

Endangered and Threatened Wildlife and Plants; Availability of Proposed Low-Effect Habitat Conservation Plans, Clay, Lake, Marion, and Putnam County, FL

AGENCY: Fish and Wildlife Service, Interior.

ACTION: Notice of availability; request for comment/information.

SUMMARY: We, the Fish and Wildlife Service (Service, USFWS), have received an application for an incidental take permit (ITP) under the Endangered Species Act of 1973, as amended (Act). Vulcan Materials Company requests a 30-year ITP. We request public comment on the permit application and accompanying proposed habitat conservation plan (HCP), as well as on our preliminary determination that the plan qualifies as low-effect under the National Environmental Policy Act (NEPA). To make this determination, we used our environmental action statement and low-effect screening form, which are also available for review.

DATES: To ensure consideration, please send your written comments by October 31, 2016.

ADDRESSES: If you wish to review the application and HCP, you may request documents by email, U.S. mail, or phone (see below). These documents are also available for public inspection by appointment during normal business hours at the office below. Send your comments or requests by any one of the following methods.

Email: northflorida@fws.gov, Attn: Permit number TE96856B-0.

Fax: Field Supervisor, (904) 731-3191, Attn: Permit number TE96856B-0.

U.S. mail: Field Supervisor, Jacksonville Ecological Services Field Office, Attn: Permit number TE96856B-0, U.S. Fish and Wildlife Service, 7915 Baymeadows Way, Suite 200, Jacksonville, FL 32256.

In-person drop-off: You may drop off information during regular business hours at the above office address.

FOR FURTHER INFORMATION CONTACT: Erin M. Gawera, telephone: (904) 731-3121; email: erin_gawera@fws.gov.

SUPPLEMENTARY INFORMATION:

Background

Section 9 of the Act (16 U.S.C. 1531 et seq.) and our implementing Federal regulations in the Code of Federal Regulations (CFR) at 50 CFR 17 prohibit the “take” of fish or wildlife species listed as endangered or threatened. Take of listed fish or wildlife is defined under the Act as “to harass, harm, pursue, hunt, shoot, wound, kill, trap, capture, or collect, or to attempt to engage in any such conduct” (16 U.S.C. 1532). However, under limited circumstances, we issue permits to authorize incidental take—i.e., take that is incidental to, and not the purpose of, the carrying out of an otherwise lawful activity.

Regulations governing incidental take permits for threatened and endangered species are at 50 CFR 17.32 and 17.22, respectively. The Act's take prohibitions do not apply to federally listed plants on private lands unless such take would violate State law. In addition to meeting other criteria, an incidental take permit's proposed actions must not jeopardize the existence of federally listed fish, wildlife, or plants.

Applicants' Proposal

Vulcan Materials Company

Vulcan Materials Company proposes incremental mining of sand reserves throughout the 8,660.71-acre permitted mining limits of seven mine sites (Astatula Sand Plant, Goldhead Sand Plant, Keuka Sand Plant, Lake Sand Plant, Marion Sand Plant, Turnpike Sand Plant, and Weirsdale Sand Plant) over the life of the mines, and seeks a 30-year permit for take of foraging and sheltering habitat occupied by scrub-jay and sand skink. The project sites are located in Clay, Lake, Marion, and Putnam Counties within North and Central Florida, Florida. The extent of direct impacts in future phases is currently undetermined; however, based on the current USFWS guidelines, approximately 1,489.31 acres of the site appear to be suitable for the sand skink, and approximately 26 acres of the site appear to be occupied by the Florida scrub-jay. In advance of the progression of the mining operations into future phases, quantitative surveys will be conducted for the Florida scrub-jay and sand skinks, to determine the occupancy and extent of occupancy within suitable areas. The completion of these surveys will be subject to the Service's approved survey guidelines at the time the surveys are conducted. The applicant proposes to mitigate for impacts to occupied skink habitat within future phases at a ratio of 2:1 by purchasing two mitigation bank credits at the Tiger Creek Conservation Bank or another permitted USFWS skink conservation bank per every 1 acre of impact. The applicant proposes to mitigate for impacts to occupied scrub-jay habitat within future phases at a ratio of 2:1 by purchasing credits at a permitted USFWS approved scrub-jay conservation bank or contributing an appropriate amount to the Florida Scrub-jay Conservation Fund as per mitigation guidelines at the time the surveys are conducted.

Our Preliminary Determination

We have determined that the applicants' proposals, including the proposed mitigation and minimization measures, would have minor or negligible effects on the species covered in their HCPs. Therefore, we have determined that the incidental take permit for this project is “low effect” and qualifies for categorical exclusion under the National Environmental Policy Act (NEPA), as provided by 43 CFR 46.205 and 43 CFR 46.210. A low-effect HCP is one involving (1) Minor or negligible effects on federally listed or candidate species and their habitats, and (2) minor or negligible effects on other environmental values or resources.

Next Steps

We will evaluate the HCPs and comments we receive to determine whether the ITP applications meet the requirements of section 10(a) of the Act (16 U.S.C. 1531 et seq.). If we determine that the application meets these requirements, we will issue ITP number #TE96856B-0. We will also evaluate whether issuance of the section 10(a)(1)(B) ITPs complies with section 7 of the Act by conducting an intra-Service section 7 consultation. We will use the results of this consultation, in combination with the above findings, in our final analysis to determine whether or not to issue the ITP. If the requirements are met, we will issue the permit to the applicant.

Public Comments

If you wish to comment on the permit application, HCP, and associated documents, you may submit comments by any one of the methods in ADDRESSES.

Public Availability of Comments

Before including your address, phone number, email address, or other personal identifying information in your comments, you should be aware that your entire comment—including your personal identifying information—may be made publicly available at any time. While you can ask us in your comment to withhold your personal identifying information from public review, we cannot guarantee that we will be able to do so.

Authority

We provide this notice under Section 10 of the Act and NEPA regulations (40 CFR 1506.6).

Dated: September 22, 2016.
Jay B. Herrington,
Field Supervisor, Jacksonville Field Office, Southeast Region.

[FR Doc. 2016-23646 Filed 9-29-16; 8:45 am]

BILLING CODE 4333-15-P